DEPARTMENT OF STATE

[Public Notice: 6969; Forms DS-3036, DS-3037, and DS-7000; OMB No. 1405-0147]

60-Day Notice of Proposed Information Collection: Recording, Reporting, and Data Collection Requirements Under 22 CFR Part 62, the Exchange Visitor Program—Student and Exchange Visitor Information System (SEVIS)

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Recording, Reporting, and Data Collection Requirements Under 22 CFR Part 62 (DS-7000), the Exchange Visitor Program Application (Form DS-3036); and Update of Information on Exchange Visitor Program Sponsor (Form DS-3037).

• OMB Control Number: 1405-0147.

• Type of Request: Revision of a Currently Approved Collection.

• Originating Office: Bureau of Educational and Cultural Affairs, Office of Designation, ECA/EC/D.

• Form Number: Forms DS-3036, DS-3037 and DS-7000.

• Respondents: U.S. government and public and private organizations wishing to become Department of State designated sponsors authorized to conduct exchange visitor programs, and Department of State designated sponsors.

• Estimated Number of Respondents: 191,810 (DS-3036—150; DS-3037—1460; DS-7000—190,200).

• Estimated Number of Responses: 1,623,447 (DS-3036—150; DS-3037—2920; DS-7000—1,620,377).

• Average Hours per Response: DS-3036—8 hours; DS-3037—20 minutes; DS-7000—45 minutes.

• Total Estimated Burden: 1,323,260 (DS-3036—1200 hours; DS-3037—973 hours; DS-7000—1,321,087).

• Frequency: On Occasion.

• Obligation to Respond: Required to Obtain or Retain a Benefit.

DATES: The Department will accept comments from the public up to 60 days from April 22, 2010.

ADDRESSES: You may submit comments by any of the following methods:

• Persons with access to the Internet may also view this notice and provide comments by going to the regulations.gov Web site at: http://www.regulations.gov/index.cfm.

• E-mail: JExchanges@State.gov

• Mail (paper, disk, or CD-ROM submissions): U.S. Department of State, ECA/EC/D, SA-5, Floor 5, 2200 C Street, NW., Washington, DC 20522-0505, ATTN: Federal Register Notice Response.

You must include the DS form number (if applicable), information collection title, and OMB control number in any correspondence.

FOR FURTHER INFORMATION CONTACT: Direct requests for additional information regarding the collection listed in this notice, including requests for copies of the proposed information collection and supporting documents, to Stanley S. Colvin, Deputy Assistant Secretary for Private Sector Exchange, ECA/EC/D, SA-5, Floor 5, Department of State, 2200 C Street, NW., Washington, DC 20522-0505, who may be reached on 202-632-2805 or at JExchanges@State.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The collection is the continuation of information collected and needed by the Bureau of Educational and Cultural Affairs in administering the Exchange Visitor Program (J-Visa) under the provisions of the Mutual Educational and Cultural Exchange Act, as amended. The forms have been revised to clarify language used and remove unnecessary data collection.

Methodology

Access to Forms DS-3036 and DS-3037 are found in the Student and Exchange Visitor Information System (SEVIS).

Dated: April 15, 2010.
Stanley S. Colvin,
Deputy Assistant Secretary for Private Sector Exchange, Bureau of Educational and Cultural Affairs, Department of State.

[FR Doc. 2010-9325 Filed 4-21-10; 8:45 am]

BILLING CODE 4710-05-P